DEPARTMENT OF JUSTICE

Antitrust Division

Notice Pursuant to the National Cooperative Research and Production Act of 1993—American Water Works Association

Notice is hereby given that, on September 16, 2004, pursuant to Section 6(a) of the National Cooperative Research and Production Act of 1993, 15 U.S.C. 4301 et seq. (“the Act”), American Water Works Association (“AWWA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Water Works Association, Denver, Co. The nature and scope of AWWA's standards development activities are: To develop, adopt, and publish voluntary consensus standards that set out the minimum requirements of products or processes used in the water profession. AWWA standards address, where appropriate, procedures of design; characteristics of materials, substances, products, equipment, systems or services; processes of manufacturing, assembly, transporting, storage or installation; techniques of analysis; testing and inspection methods and requirements; parameters of use; and such other elements essential to provide adequate reliability, life and usage in the water profession. AWWA's voluntary consensus standards are developed by AWWA members and other interested parties.

Dorothy B. Fountain,
Deputy Director of Operations, Antitrust Division.

[FR Doc. 04-22888 Filed 10-12-04; 8:45 am]

BILLING CODE 4410-11-M